DEPARTMENT OF TRANSPORTATION

Federal Aviation Administration

14 CFR Part 39

[Docket No. 2001-NM-334-AD; Amendment 39-13057; AD 2003-04-09]

RIN 2120-AA64

Airworthiness Directives; Fokker Model F.28 Mark 1000, 2000, 3000, and 4000 Series Airplanes

AGENCY: Federal Aviation Administration, DOT.

ACTION: Final rule.

SUMMARY: This amendment adopts a new airworthiness directive (AD), applicable to all Fokker Model F.28 Mark 1000, 2000, 3000, and 4000 series airplanes, that requires repetitive inspections for discrepancies of the internal fuselage skin panels located in the stub wing areas; and corrective action if necessary. This action is necessary to detect and correct heat damage to the fuselage skin panels caused by the leakage of hot air from one of the bleed air ducts inside the stub wing, which could result in reduced structural integrity of the engine support structure. This action is intended to address the identified unsafe condition.

DATES: Effective April 8, 2003.

The incorporation by reference of certain publications listed in the regulations is approved by the Director of the Federal Register as of April 8, 2003.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to all Fokker Model F.28 Mark 1000, 2000, 3000, and 4000 series airplanes was published in the Federal Register on November 21, 2002 (67 FR 70189). That action proposed to require repetitive inspections for discrepancies of the internal fuselage skin panels located in the stub wing areas; and corrective action if necessary.

Comments

Interested persons have been afforded an opportunity to participate in the making of this amendment. No comments were submitted in response to the proposal or the FAA's determination of the cost to the public.

Conclusion

The FAA has determined that air safety and the public interest require the adoption of the rule as proposed.

Interim Action

This is considered to be interim action until final action is identified, at which time the FAA may consider further rulemaking.

Cost Impact

The FAA estimates that 24 airplanes of U.S. registry will be affected by this AD, that it will take approximately 1 work hour per airplane to accomplish the proposed required inspection, and that the average labor rate is $60 per work hour. Based on these figures, the cost impact of the AD on U.S. operators is estimated to be $1,440, or $60 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES..

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-04—09 Fokker Services B.V.: Amendment 39-13057. Docket 2001-NM-334-AD.

Applicability: All Model F.28 Mark 1000, 2000, 3000, and 4000 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect and correct heat damage to the fuselage skin panels caused by the leakage of hot air from one of the bleed air ducts inside the stub wing, and consequent reduced structural integrity of the engine support structure; accomplish the following:

Repetitive Inspections

(a) Within 6,000 flight cycles after the effective date of this AD: Perform a general visual inspection of the internal fuselage structure between frames 16060 and 16660 and the beams at the upper and lower stub wing angles in the stub wing (engine pylon) areas, for discoloration of the primer paint, buckling or waviness of the skin panel, loose and/or missing fasteners, or fasteners with sheared-off heads, by accomplishing all actions specified in Part 1 of the Accomplishment Instructions of Fokker Service Bulletin F28/53-151, dated June 4, 2001. Repeat the inspection at intervals not to exceed 6,000 flight cycles.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions

(b) Except as provided by paragraph (c) of this AD, if any discrepancy is found (i.e., primer paint discoloration; buckling or waviness of the skin panel; missing, damaged, or loose rivets) during the general visual inspection required by paragraph (a) of this AD, before further flight, perform the applicable follow-on corrective actions (e.g., eddy current inspection; measurement of the length and depth of buckles or waves in the skin panel; repair of skin panels with heat damage, buckling, or waviness that are not within the acceptable limits specified in the service bulletin, or replacement with new skin panels; and replacement of loose and/or missing fasteners, or fasteners having sheared-off heads with new fasteners; as applicable) specified in the Accomplishment Instructions of Fokker Service Bulletin F28/53-151, dated June 4, 2001.

(c) If buckling or waviness of the skin panel is detected during the general visual inspection required by paragraph (a) of this AD, and the depth is within the limits specified in Part 2, paragraph C.(2) of the Accomplishment Instructions of Fokker Service Bulletin F28/53-151, dated June 4, 2001, the affected area must be repaired within 2,000 flight cycles after accomplishment of the inspection required by paragraph (a) of this AD.

(d) Repair or replacement of damaged fuselage skin panels or fasteners does not terminate the repetitive inspections required by this AD.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) Unless otherwise specified in this AD, the actions shall be done in accordance with Fokker Services B.V. Service Bulletin F28/53-151, dated June 4, 2001, excluding Manual Change Notification—Maintenance Documentation MCNM F28-025, dated June 4, 2001. This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

Note 4: The subject of this AD is addressed in Dutch airworthiness directive 2001-093, dated July 31, 2001.

Effective Date

(h) This amendment becomes effective on April 8, 2003.

Issued in Renton, Washington, on February 13, 2003.
Ali Bahrami,
Acting Manager, Transport Airplane Directorate, Aircraft Certification Service.

[FR Doc. 03-4165 Filed 3-3-03; 8:45 am]

BILLING CODE 4910-13-P